DEPARTMENT OF COMMERCE

International Trade Administration

[C-122-839]

Notice of Final Affirmative Countervailing Duty Determination and Final Negative Critical Circumstances Determination: Certain Softwood Lumber Products From Canada

AGENCY: Import Administration, International Trade Administration, Department of Commerce.

ACTION: Notice of final affirmative countervailing duty determination and final negative critical circumstances determination.

SUMMARY: On August 17, 2001, the Department of Commerce (the Department) published in the Federal Register its preliminary affirmative determination in the countervailing duty investigation of softwood lumber products (subject merchandise) from Canada for the period April 1, 2000, through March 31, 2001 (66 FR 43186).

The net subsidy rate in the final determination differs from that of the preliminary determination. The revised final net subsidy rate is listed below in the “Suspension of Liquidation” section of this notice.

EFFECTIVE DATE: April 2, 2002.

FOR FURTHER INFORMATION CONTACT: Eric B. Greynolds at (202) 482-6071 or Stephanie Moore (202) 482-3692, Office of AD/CVD Enforcement VI, Import Administration, International Trade Administration, U.S. Department of Commerce, Room 4012, 14th Street and Constitution Avenue, NW., Washington, DC 20230.

SUPPLEMENTARY INFORMATION:

Applicable Statute and Regulations

Unless otherwise indicated, all citations to the statute are references to the provisions effective January 1, 1995, the effective date of the amendments made to the Tariff Act of 1930 (the Act) by the Uruguay Round Agreements Act (URAA). In addition, unless otherwise indicated, all citations to the Department's regulations are to the regulations codified at 19 CFR Part 351 (2000).

Background

On August 17, 2001, the Department published the preliminary determination of its investigation of softwood lumber products from Canada. See Notice of Preliminary Affirmative Countervailing Duty Determination, Preliminary Affirmative Critical Circumstances Determination, and Alignment of Final Countervailing Duty Determination with Final Antidumping Duty Determination: Certain Softwood Lumber Products from Canada, 66 FR 43186 (August 17, 2001) (Preliminary Determination). This investigation covers the period April 1, 2000, through March 31, 2001.

We invited interested parties to comment on the Preliminary Determination. We received both case briefs and rebuttal briefs from interested parties. Public hearings were held on March 6 and March 19, 2002. All issues raised in the case and rebuttal briefs by parties to this investigation are addressed in the “Issues and Decision Memorandum” (Decision Memorandum) dated March 21, 2002, which is hereby adopted by this notice.

Scope of Investigation

The products covered by this investigation are softwood lumber, flooring and siding (softwood lumber products). Softwood lumber products include all products classified under headings 4407.1000, 4409.1010, 4409.1090, and 4409.1020, respectively, of the Harmonized Tariff Schedule of the United States (HTSUS), and any softwood lumber, flooring and siding described below. These softwood lumber products include:

(1) Coniferous wood, sawn or chipped lengthwise, sliced or peeled, whether or not planed, sanded or finger-jointed, of a thickness exceeding six millimeters;

(2) Coniferous wood siding (including strips and friezes for parquet flooring, not assembled) continuously shaped (tongued, grooved, rabbeted, chamfered, V-jointed, beaded, molded, rounded or the like) along any of its edges or faces, whether or not planed, sanded or finger-jointed;

(3) Other coniferous wood (including strips and friezes for parquet flooring, not assembled) continuously shaped (tongued, grooved, rabbeted, chamfered, V-jointed, beaded, molded, rounded or the like) along any of its edges or faces (other than wood mouldings and wood dowel rods) whether or not planed, sanded or finger-jointed; and

(4) Coniferous wood flooring (including strips and friezes for parquet flooring, not assembled) continuously shaped (tongued, grooved, rabbeted, chamfered, V-jointed, beaded, molded, rounded or the like) along any of its edges or faces, whether or not planed, sanded or finger-jointed.

Although the HTSUS subheadings are provided for convenience and U.S. Customs purposes, the written description of the merchandise under investigation is dispositive. Preliminary scope exclusions and clarifications were published in three separate Federal Register notices.

Final Scope Exclusions

On February 11, 2002, we published an amendment to the preliminary antidumping (AD) determination which modified the list of products excluded from the scope of the AD and CVD softwood lumber investigations. See Notice of Amendment to Preliminary Determination of Sales at Less Than Fair Value: Certain Softwood Lumber Products from Canada; Amendment to Preliminary Affirmative Countervailing Duty Determination, Preliminary Affirmative Critical Circumstances Determination, and Alignment of Final Countervailing Duty Determination with Final Antidumping Determination: Certain Softwood Lumber Products from Canada, 67 FR 6230, 6231 (February 11, 2002) (Amended Preliminary). In our review of the comments received throughout the course of these proceedings, we found that the definitions for some of the excluded products required further clarification and/or elaboration. Based on our analysis of the comments received, we have modified the list of excluded products as follows: ¹

¹ A group of products that were excluded from the scope as classified was listed in the preliminary determinations as Group A. This list remains applicable as we determined, through our review of the petition and factual information submitted, and consultations with the parties, that the products were outside the scope of the investigations.

Group A. Softwood lumber products excluded from the scope:

1. Trusses and truss kits, properly classified under HTSUS 4418.90.

2. I-Joist beams.

3. Assembled box spring frames.

4. Pallets and pallet kits, properly classified under HTSUS 4415.20.

5. Garage doors.

6. Edge-glued wood, properly classified under HTSUS item 4421.90.98.40.

7. Properly classified complete door frames.

8. Properly classified complete window frames.

9. Properly classified furniture.

Softwood lumber products excluded from the scope only if they meet certain requirements:

1. Stringers (pallet components used for runners): if they have at least two notches on the side, positioned at equal distance from the center, to properly accommodate forklift blades, properly classified under HTSUS 4421.90.98.40.

2. Box-spring frame kits: if they contain the following wooden pieces—two side rails, two end (or top) rails and varying numbers of slats. The side rails and the end rails should be radius-cut at both ends. The kits should be individually packaged, they should contain the exact number of wooden components needed to make a particular box spring frame, with no further processing required. None of the components exceeds 1″ in actual thickness or 83″ in length.

3. Radius-cut box-spring-frame components, not exceeding 1″ in actual thickness or 83″ in length, ready for assembly without further processing. The radius cuts must be present on both ends of the boards and must be substantial cuts so as to completely round one corner.

4. Fence pickets requiring no further processing and properly classified under HTSUS 4421.90.70, 1″ or less in actual thickness, up to 8″ wide, 6′ or less in length, and have finials or decorative cuttings that clearly identify them as fence pickets. In the case of dog-eared fence pickets, the corners of the boards should be cut off so as to remove pieces of wood in the shape of isosceles right angle triangles with sides measuring ¾ inch or more.

5. U.S. origin lumber shipped to Canada for minor processing and imported into the United States, is excluded from the scope of the investigations if the following conditions are met: (a) the processing occurring in Canada is limited to kiln-drying, planing to create smooth-to-size board, and sanding, and (b) if the importer establishes to Customs' satisfaction that the lumber is of U. S. origin.

6. Softwood lumber products contained in single family home packages or kits, regardless of tariff classification, are excluded from the scope of the orders if the following criteria are met:

A. The imported home package or kit constitutes a full package of the number of wooden pieces specified in the plan, design or blueprint necessary to produce a home of at least 700 square feet produced to a specified plan, design or blueprint;

B. The package or kit must contain all necessary internal and external doors and windows, nails, screws, glue, subfloor, sheathing, beams, posts, connectors and if included in purchase contract decking, trim, drywall and roof shingles specified in the plan, design or blueprint;

C. Prior to importation, the package or kit must be sold to a retailer of complete home packages or kits pursuant to a valid purchase contract referencing the particular home design plan or blueprint, and signed by a customer not affiliated with the importer;

D. The whole package must be imported under a single consolidated entry when permitted by the U.S. Customs Service, whether or not on a single or multiple trucks, rail cars or other vehicles, which shall be on the same day except when the home is over 2,000 square feet;

E. the following documentation must be included with the entry documents:

1. A copy of the appropriate home design, plan, or blueprint matching the entry;

2. A purchase contract from a retailer of home kits or packages signed by a customer not affiliated with the importer;

3. A listing of inventory of all parts of the package or kit being entered that conforms to the home design package being entered;

4. In the case of multiple shipments on the same contract, all items listed in E(3) which are included in the present shipment shall be identified as well.

We have determined that the excluded products listed above are outside the scope of these investigations provided the specified conditions are met. See Section C (Scope Issues) and Section D (Scope Exclusion Analysis) of the March 21, 2002, Issues and Decision Memorandum for the Antidumping Duty Investigation of Certain Softwood Lumber Products From Canada for further discussion. Lumber products that Customs may classify as stringers, radius cut box-spring-frame components, and fence pickets, not conforming to the above requirements, as well as truss components, pallet components, and door and window frame parts, are covered under the scope of this investigation and may be classified under HTSUS subheadings 4418.90.40.90, 4421.90.70.40, and 4421.90.98.40. On January 24, 2002, Customs informed the Department of certain changes in the 2002 HTSUS affecting these products. Specifically, subheading 4418.90.40.90 and 4421.90.98.40 were changed to 4418.90.45.90 and 4421.90.97.40, respectively. Therefore, we are adding these subheadings as well.

Exclusion of Maritime Products

On July 27, 2001, we amended our Initiation Notice, to exempt certain softwood lumber products from the Provinces of New Brunswick, Nova Scotia, Prince Edward Island, and Newfoundland (the Maritime Provinces) from this investigation. This exemption does not apply to softwood lumber products produced in the Maritime Provinces from Crown timber harvested in any other Province. See Amendment to the Notice of Initiation of Countervailing Duty Investigation: Certain Softwood Lumber Products from Canada, 66 FR 40228 (August 2, 2001).

Company Exclusions

Based upon our review of exclusion requests received prior to the Preliminary Determination, the Department preliminarily excluded Frontier Lumber from the investigation. Since the Preliminary Determination, the deadline was extended and we received exclusion requests directly from companies and through the Government of Canada (GOC). By memorandum of February 20, 2002, the Department announced that we found it practicable to consider only 30 of the more than 300 company-specific requests for exclusion. We sent supplemental questionnaires to the selected companies and conducted verification of each of the company responses received.

Based upon the verified information on the record, the following companies have been granted company exclusions: Armand Duhamel et fils Inc., Bardeaux et Cedres, Beaubois Coaticook Inc., Busque & Laflamme Inc., Carrier & Begin Inc., Clermond Hamel, J.D. Irving, Ltd., Les Produits. Forestiers. D.G., Ltee, Marcel Lauzon Inc., Mobilier Rustique, Paul Vallee Inc., Rene Bernard, Inc., Roland Boulanger & Cite., Ltee, Scierie Alexandre Lemay, Scierie La Patrie, Inc., Scierie Tech, Inc., Wilfrid Paquet et fils, Ltee, B. Luken Logging Ltd., Frontier Lumber, and Sault Forest Products Ltd.

For further discussion of this issue, see the Decision Memorandum.

Period of Investigation

The period of investigation (POI) for which we are measuring subsidies is April 1, 2000, through March 31, 2001, which is the most recently completed fiscal year of the GOC.

Negative Critical Circumstances

In the Preliminary Determination, the Department determined that critical circumstances exist with respect to imports of softwood lumber from Canada, pursuant to section 703(e) of the Act and section 351.206 of the regulations. Based on further investigation, the Department is not finding critical circumstances in this final determination. For further discussion on this issue, see the Decision Memorandum.

Verification

As provided in section 782(i) of the Act, we conducted verification of the government responses from January 13, 2002 through February 5, 2002. We also conducted verification of the responses of companies seeking exclusion from February 27 through March 6, 2002. We used standard verification procedures, including meeting with government and company officials and examining relevant accounting records and original source documents provided by the respondents. Our verification results are outlined in detail in the public versions of the verification reports, which are on file in the Central Records Unit of the Department of Commerce (Room B-099).

Analysis of Comments Received

A list of issues which parties have raised and to which we have responded, all of which are in the Decision Memorandum, is attached to this notice as Appendix I. Parties can find a complete discussion of all issues raised in this investigation and the corresponding recommendations in this public memorandum which is on file in room B-099 of the Main Commerce Building. In addition, a complete version of the Decision Memorandum can be accessed directly on the World Wide Web at http://ia.ita.doc.gov, under the heading “Federal Register Notices.” The paper copy and electronic version of the Decision Memorandum are identical in content.

Suspension of Liquidation

In accordance with sections 705(c)(1)(B)(i)(II) and 777A(e)(2)(B) of the Act, we have calculated a single country-wide subsidy rate to be applied to all producers and exporters of the subject merchandise from Canada. This rate is summarized below:

Producer/exporter | Net subsidy rate
All Producers/Exporters | 19.34 Ad Valorem.

In accordance with the preliminary affirmative determination of critical circumstances, we instructed the U.S. Customs Service to suspend liquidation of all entries of the subject merchandise from Canada, which were entered or withdrawn from warehouse, on or after May 19, 2001, which is 90 days prior to August 17, 2001, the date of publication of the Preliminary Determination in the Federal Register. In accordance with section 703(d) of the Act, we instructed the U.S. Customs Service to discontinue the suspension of liquidation for merchandise entered, or withdrawn from warehouse, for consumption on or after December 15, 2001. Because we do not find critical circumstances in this final determination, we will instruct U.S. Customs to terminate suspension of liquidation, and release any cash deposits or bonds, on imports during the 90 day period prior to the date of publication of the Preliminary Determination.

We will reinstate suspension of liquidation under section 706(a) of the Act for all entries if the International Trade Commission (ITC) issues a final affirmative injury determination and will require a cash deposit of estimated countervailing duties for such entries of merchandise in the amounts indicated above. If the ITC determines that material injury, or threat of material injury, does not exist, this proceeding will be terminated and all estimated duties deposited or securities posted as a result of the suspension of liquidation will be refunded or canceled.

As indicated above, the Department exempted certain softwood lumber products from the Maritime Provinces from this investigation. This exemption, however, does not apply to softwood lumber products produced in the Maritime Provinces from Crown timber harvested in any other province. Additionally, as explained above in the “Exclusions” section of the notice, we are excluding the following companies: Armand Duhamel et fils Inc., Bardeaux et Cedres, Beaubois Coaticook Inc., Busque & Laflamme Inc., Carrier & Begin Inc., Clermond Hamel, J.D. Irving, Ltd., Les Produits. Forestiers. D.G., Ltee, Marcel Lauzon Inc., Mobilier Rustique, Paul Vallee Inc., Rene Bernard, Inc., Roland Boulanger & Cite., Ltee, Scierie Alexandre Lemay, Scierie La Patrie, Inc., Scierie Tech, Inc., Wilfrid Paquet et fils, Ltee, B. Luken Logging Ltd., Frontier Lumber, and Sault Forest Products Ltd. Therefore, we are directing the U.S. Customs Service to exempt from the suspension of liquidation only entries of softwood lumber products from Canada which are accompanied by an original Certificate of Origin issued by the Maritime Lumber Bureau (MLB), and those of the excluded companies listed above. The MLB certificate will specifically state that the corresponding entries cover softwood lumber products produced in the Maritime Provinces from logs originating in Nova Scotia, New Brunswick, Prince Edward Island, Newfoundland and the state of Maine.

ITC Notification

In accordance with section 705(d) of the Act, we will notify the ITC of our determination. In addition, we are making available to the ITC all non-privileged and non-proprietary information related to this investigation. We will allow the ITC access to all privileged and business proprietary information in our files, provided that the ITC confirms that it will not disclose such information, either publicly or under an administrative protective order (APO), without the written consent of the Assistant Secretary for Import Administration.

If the ITC determines that material injury, or threat of material injury, does not exist, this proceeding will be terminated. If however, the ITC determines that such injury does exist, we will issue a countervailing duty order.

Return or Destruction of Proprietary Information

In the event that the ITC issues a final negative injury determination, this notice will serve as the only reminder to parties subject to APO of their responsibility concerning the destruction of proprietary information disclosed under APO in accordance with 19 CFR 351.305(a)(3). Failure to comply is a violation of the APO.

This determination is published pursuant to sections 705(d) and 777(i) of the Act.

Dated: March 21, 2002.
Faryar Shirzad,
Assistant Secretary for Import Administration.

Appendix I—Issues and Decision Memorandum

A. Summary

B. Methodology and Background

I. Scope of Investigation

II. Company Exclusions

III. Period of Investigation

IV. Critical Circumstances

V. Subsidies Valuation Information

A. Aggregation

B. Allocation Period

C. Benchmarks for Loans and Discount Rate

D. Recurring and Non-recurring Benefits

E. Subsidy Rate Calculation

F. Upstream Subsidies

VI. Numerator Issues

VII. Denominator Issues

C. Analysis of Programs

I. Provincial Stumpage Programs Determined to Confer Subsidies

A. Financial Contribution

B. Benefit

C. Specificity

D. Conversion Factor

E. Description of Provincial Stumpage Programs

1. Province of Quebec

2. Province of British Columbia

3. Province of Ontario

4. Province of Alberta

5. Province of Manitoba

6. Province of Saskatchewan

F. Country-Wide Rate for Stumpage

II. Other Programs Determined to Confer Subsidies

A. Programs Administered by the Government of Canada

1. Non-Payable Grants and Conditionally Repayable Contributions from the Department of Western Economic Diversification

2. Federal Economic Development Initiative in Northern Ontario (FedNor)

B. Programs Administered by the Province of British Columbia

1. Forest Renewal B.C.

2. Job Protection Commission

C. Programs Administered by the Province of Quebec

1. Private Forest Development Program

III. Programs Determined to be Not Countervailable

A. Funds for Job Creation by the Province of Quebec

B. Sales Tax Exemption for Seedlings by the Province of Ontario

C. Forest Resources Improvement Program

IV. Programs Determined Not to Confer a Benefit

A. Export Assistance Under the Societe de Developpement Industrial du Quebec (SDI)/Investissement Quebec

B. Assistance under Article 7 of the SDI

C. Assistance from the Societe de Recupertioon d-Exploitation et de Developpement Forestiers du Quebec (Rexfor)

V. Other Programs

A. Tembec Redemption of Preferred Stock Held by SDI

B. Subsidies to Skeena Cellulose Inc.

VI. Programs Determined Not to be Used

A. Canadian Forest Service Industry, Trade and Economics Program

B. Loan Guarantees to Attract New Mills from the Province of Alberta

VII. Program Which Has Been Terminated

A. Export Support Loan Program from the Province of Ontario

VIII.Programs Which We Did Not Investigate

A. Subsidies Provided by Canada's Export Development Corporation

B. Timber Damage Compensation in Alberta

D. Total Ad Valorem Rate

E. Analysis of Comments

Comment 1: Adjust Provincial Stumpage Rates for U.S. Procurement Costs

Comment 2: Tenure Security Rights are Countervailable

Comment 3: Forest Renewal B.C. and Job Protection Commission Being Terminated

Comment 4: Clerical Errors in Forest Renewal B.C. Subsidy Calculation

Comment 5: The Private Forest Development Program is not Specific under the Act

Comment 6: Loan Guarantees from Investissement Quebec are Not Export Subsidies

Comment 7: Job Protection Commission is Not Countervailable

Comment 8: The Industry, Trade and Economics Program is Not Countervailable

[FR Doc. 02-7849 Filed 4-1-02; 8:45 am]

BILLING CODE 3510-DS-P